DEPARTMENT OF THE TREASURY

Internal Revenue Service

26 CFR Part 1

[TD 9048]

Guidance Under Section 1502; Suspension of Losses on Certain Stock Dispositions; Correction

AGENCY: Internal Revenue Service (IRS), Treasury.

ACTION: Correcting amendment.

SUMMARY: This document contains a correction to Treasury Decision 9048, which was published in the Federal Register on Friday, March 14, 2003 (68 FR 12287) that redetermines the basis of stock of a subsidiary member or a consolidated group immediately prior to certain transfers of such stock and certain deconsolidations of a subsidiary member.

DATES: This correction is effective on March 14, 2003.

FOR FURTHER INFORMATION CONTACT: Aimee K. Meacham at (202) 622-7530 (not a toll-free number).

SUPPLEMENTARY INFORMATION:

Background

The final regulations that are the subject of this correction are under section 1502 of the Internal Revenue Code.

Need for Correction

As published, TD 9048 contains an error which may prove to be misleading and is in need of clarification.

List of Subjects in 26 CFR Part 1

Income taxes, Reporting and recordkeeping requirements.

Correction of Publication

Accordingly, 26 CFR Part 1 is corrected by making the following correcting amendment:

PART 1—INCOME TAXES

Paragraph 1. The authority citation for part 1 continues to read in part as follows:

Authority: 26 U.S.C. 7805 * * *

§ 1.1502-35T [Corrected]

Par. 2. Section 1.1502-35T(b)(2)(ii)(B) is amended by removing the word “or” at the end of the paragraph.

LaNita Van Dyke,
Acting Chief, Regulations Unit, Associate Chief Counsel, (Procedure and Administration).

[FR Doc. 03-11591 Filed 5-8-03; 8:45 am]

BILLING CODE 4830-01-P